COMMODITY FUTURES TRADING COMMISSION

Sunshine Act Notice; Agricultural Advisory Committee Meeting

The Commodity Futures Trading Commission's Agricultural Advisory Committee will conduct a public meeting on Tuesday, August 1, 2006. The meeting will take place in the first floor hearing room of the Commission's Washington, DC headquarters, Three Lafayette Centre, 1155 21st Street, NW., Washington, DC 20581 from 9:30 a.m. to 4:30 p.m. The agenda will cover discussion of commitment of trader reports and economic and market implications of thinly traded price discovery markets.

The meeting is open to the public. Any member of the public who wishes to file a written statement with the Advisory Committee should mail a copy of the statement to the attention of: Agricultural Advisory Committee, c/o Chairman, Michael Dunn, Commodity Futures Trading Commission, Three Lafayette Centre, 1155 21st Street, NW., Washington, DC 20581, before the meeting. Members of the public who wish to make oral statements should inform Chairman Dunn in writing at the foregoing address at least three business days before the meeting. Reasonable provision will be made, if time permits, for oral presentations of no more than five minutes each in duration.

For further information concerning this meeting, please contact Nicole McNair at (202) 418-5070.

Issued by the Commission in Washington, DC on July 12, 2006.
Eileen A. Donovan,
Acting Secretary of the Commission.

[FR Doc. 06-6259 Filed 7-13-06; 8:45am]

BILLING CODE 6351-01-M